DEPARTMENT OF ENERGY

Federal Energy Regulatory Commission

Combined Notice of Filings

Take notice that the Commission has received the following Natural Gas Pipeline Rate and Refund Report filings:

Filings Instituting Proceedings

Docket Numbers: RP12-213-000.

Applicants: Equitrans, L.P.

Description: Equitrans, L.P. submits Operational Flow Order update.

Filed Date: 10/2/12.

Accession Number: 20121002-5083.

Comments Due: 5 p.m. ET 10/15/12.

Docket Numbers: RP13-70-000.

Applicants: Alliance Pipeline L.P.

Description: Withdraw RP13-70-000.

Filed Date: 10/2/12.

Accession Number: 20121002-5000.

Comments Due: 5 p.m. ET 10/15/12.

Docket Numbers: RP13-79-000.

Applicants: Crossroads Pipeline Company.

Description: NAESB 2.0 570 Withdrawal.

Filed Date: 10/2/12.

Accession Number: 20121002-5008.

Comments Due: 5 p.m. ET 10/15/12.

Docket Numbers: RP13-83-000.

Applicants: Columbia Gulf Transmission Company.

Description: NAESB 2.0 570 Withdrawal.

Filed Date: 10/2/12.

Accession Number: 20121002-5007.

Comments Due: 5 p.m. ET 10/15/12.

Docket Numbers: RP13-88-000.

Applicants: Central Kentucky Transmission Company.

Description: NAESB 2.0 570 Withdrawal.

Filed Date: 10/2/12.

Accession Number: 20121002-5005.

Comments Due: 5 p.m. ET 10/15/12.

Docket Numbers: RP13-92-000.

Applicants: Hardy Storage Company, LLC.

Description: NAESB 2.0 570 Withdrawal.

Filed Date: 10/2/12.

Accession Number: 20121002-5006.

Comments Due: 5 p.m. ET 10/15/12.

Docket Numbers: RP13-96-000.

Applicants: Millennium Pipeline Company, LLC.

Description: NAESB 2.0 570 Withdrawal.

Filed Date: 10/2/12.

Accession Number: 20121002-5009.

Comments Due: 5 p.m. ET 10/15/12.

Docket Numbers: RP13-117-000.

Applicants: Columbia Gas Transmission, LLC.

Description: NAESB 2.0 Errata to be effective 12/1/2012.

Filed Date: 10/2/12.

Accession Number: 20121002-5010.

Comments Due: 5 p.m. ET 10/15/12.

Docket Numbers: RP13-118-000.

Applicants: Columbia Gulf Transmission Company.

Description: NAESB 2.0 Errata to be effective 12/1/2012.

Filed Date: 10/2/12.

Accession Number: 20121002-5011.

Comments Due: 5 p.m. ET 10/15/12.

Docket Numbers: RP13-119-000.

Applicants: Black Marlin Pipeline Company.

Description: NAESB v 2.0 Compliance Filing to be effective 12/1/2012.

Filed Date: 10/2/12.

Accession Number: 20121002-5012.

Comments Due: 5 p.m. ET 10/15/12.

Docket Numbers: RP13-120-000.

Applicants: Millennium Pipeline Company, LLC.

Description: NAESB 2.0 Errata to be effective 12/1/2012.

Filed Date: 10/2/12.

Accession Number: 20121002-5013.

Comments Due: 5 p.m. ET 10/15/12.

Docket Numbers: RP13-121-000.

Applicants: Crossroads Pipeline Company.

Description: NAESB 2.0 Errata to be effective 12/1/2012.

Filed Date: 10/2/12.

Accession Number: 20121002-5051.

Comments Due: 5 p.m. ET 10/15/12.

Docket Numbers: RP13-122-000.

Applicants: Central Kentucky Transmission Company.

Description: NAESB 2.0 Errata to be effective 12/1/2012.

Filed Date: 10/2/12.

Accession Number: 20121002-5052.

Comments Due: 5 p.m. ET 10/15/12.

Docket Numbers: RP13-123-000.

Applicants: Alliance Pipeline L.P.

Description: NAESB version 2 Resubmittal to be effective 12/1/2012.

Filed Date: 10/2/12.

Accession Number: 20121002-5054.

Comments Due: 5 p.m. ET 10/15/12.

Docket Numbers: RP13-124-000.

Applicants: Hardy Storage Company, LLC.

Description: NAESB 2.0 Errata to be effective 12/1/2012.

Filed Date: 10/2/12.

Accession Number: 20121002-5066.

Comments Due: 5 p.m. ET 10/15/12.

Docket Numbers: RP13-125-000.

Applicants: Northwest Pipeline GP.

Description: RP12- Avista Non-Conforming Contract Nos. 100010 & 100314 to be effective 11/2/2012.

Filed Date: 10/2/12.

Accession Number: 20121002-5072.

Comments Due: 5 p.m. ET 10/15/12.

Docket Numbers: RP13-126-000.

Applicants: Tennessee Gas Pipeline Company, L.L.C.

Description: Volume No. 2—South Jersey Rose Lake Negotiated Rate NonConforming Agmt to be effective 11/1/2012.

Filed Date: 10/2/12.

Accession Number: 20121002-5158.

Comments Due: 5 p.m. ET 10/15/12.

Docket Numbers: RP13-127-000.

Applicants: Gulf Crossing Pipeline Company LLC.

Description: Amendment to Neg Rate Agmt—BP Energy 37-10 to be effective 10/4/2012.

Filed Date: 10/3/12.

Accession Number: 20121003-5018.

Comments Due: 5 p.m. ET 10/15/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1107-001.

Applicants: Gulf South Pipeline Company, LP.

Description: Amendment to RP12-1107-000 to be effective 10/1/2012.

Filed Date: 10/2/12.

Accession Number: 20121002-5070.

Comments Due: 5 p.m. ET 10/15/12.

Docket Numbers: RP13-56-001.

Applicants: Bear Creek Storage Company, L.L.C.

Description: Bear Creek Baseline Tariff Filing—Errata to be effective 10/1/2012.

Filed Date: 10/2/12.

Accession Number: 20121002-5073.

Comments Due: 5 p.m. ET 10/15/12.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated October 3, 2012.
Nathaniel J. Davis, Sr.,
Deputy Secretary.

[FR Doc. 2012-25269 Filed 10-12-12; 8:45 am]

BILLING CODE 6717-01-P